NATIONAL TRANSPORTATION SAFETY BOARD

Sunshine Act Meeting

TIME AND DATE: 9:30 a.m., Tuesday, February 14, 2012.

PLACE: NTSB Conference Center, 429 L'Enfant Plaza SW., Washington, DC 20594.

STATUS: The ONE item is open to the public.

MATTER TO BE CONSIDERED:

8145A: Railroad Accident Report—Derailment of CN Freight Train U70691-18 with Subsequent Hazardous Materials Release and Fire, Cherry Valley, Illinois, June 19, 2009.

NEWS MEDIA CONTACT: Telephone: (202) 314-6100.

The press and public may enter the NTSB Conference Center one hour prior to the meeting for set up and seating.

Individuals requesting specific accommodations should contact Rochelle Hall at (202) 314-6305 by Friday, February 10, 2012.

The public may view the meeting via a live or archived Webcast by accessing a link under “News & Events” on the NTSB home page at http://www.ntsb.gov.

Schedule updates including weather-related cancellations are also available at http://www.ntsb.gov.

FOR MORE INFORMATION CONTACT: Candi Bing, (202) 314-6403 or by email at bingc@ntsb.gov.

Friday, January 27, 2012.
Candi R. Bing,
Federal Register Liaison Officer.

[FR Doc. 2012-2277 Filed 1-30-12; 11:15 am]

BILLING CODE 7533-01-P